DEPARTMENT OF STATE

[Public Notice 8072]

60-Day Notice of Proposed Information Collection: Smart Traveler Enrollment Program

ACTION: Notice of request for public comments.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to December 24, 2012.

ADDRESSES: You may submit comments by any of the following methods:

• Web: Persons with access to the Internet may use the Federal Docket Management System (FDMS) to comment on this notice by going to www.Regulations.gov. You can search for the document by entering “Public Notice ####” in the Search bar. If necessary, use the Narrow by Agency filter option on the Results page.

• Email: mailto:Ask-OCS-L-Public-Inquiries@state.gov.

• Mail: (paper, disk, or CD-ROM submissions): U.S. Department of State, CA/OCS/L, SA-29, 4th Floor, Washington, DC 20037-3202

• Fax: 202-736-9111

• Hand Delivery or Courier: U.S. Department of State, CA/OCSL 2100 Pennsylvania Avenue, 4th Floor, Washington, DC 20037-3202.

You must include the DS form number (if applicable), information collection title, and OMB control number in any correspondence.

FOR FURTHER INFORMATION CONTACT: Direct requests for additional information regarding the collection listed in this notice, including requests for copies of the proposed information collection and supporting documents, to Derek A. Rivers, Bureau of Consular Affairs, Overseas Citizens Services (CA/OCS/L), U.S. Department of State, SA-29, 4th Floor, Washington, DC 20037-3202, who may be reached at mailto: Ask-OCS-L-Public-Inquiries@state.gov.

SUPPLEMENTARY INFORMATION: • Title of Information Collection: Smart Traveler Enrollment Program (STEP)

• OMB Control Number: 1405-0152

• Type of Request: Extension

• Originating Office: Bureau of Consular Affairs, Overseas Citizens Services (CA/OCS)

• Form Number: DS-4024, DS-4024e

• Respondents: United States Citizens and Nationals

• Estimated Number of Respondents: 988,292

• Estimated Number of Responses: 988,292

• Average Hours per Response: 20 minutes

• Total Estimated Burden: 329,430 hours

• Frequency: On Occasion

• Obligation to Respond: Voluntary

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The STEP makes it possible for U.S. nationals to register on-line from anywhere in the world. In the event of a family emergency, natural disaster or international crisis, U.S. embassies and consulates rely on this registration information to provide critical information and assistance to them. Statute 22 U.S.C. 2715 is one of the main legal authorities that deem the usage of this form necessary.

Methodology: 99% of responses are received via electronic submission on the Internet. The service is available on the Department of State, Bureau of Consular Affairs Web site http://travel.state.gov at https://step.state.gov/step/. The paper version of the collection permits respondents who do not have Internet access to provide the information to the U.S. embassy or consulate by fax, mail or in person.

Dated: October 2, 2012.
Michelle Bernier-Toth,
Managing Director, Bureau of Consular Affairs, Overseas Citizens Services, Department of State.

[FR Doc. 2012-26306 Filed 10-24-12; 8:45 am]

BILLING CODE 4710-06-P